GENERAL SERVICES ADMINISTRATION

41 CFR Part 302-17

[FTR Amendment 2005-02; FTR Case 2005-302]

RIN 3090-AI05

Federal Travel Regulation; Relocation Income Tax (RIT) Allowance Tax Tables—2005 Update

AGENCY: Office of Governmentwide Policy, (GSA).

ACTION: Final rule.

SUMMARY: The Federal, State, and Puerto Rico tax tables for calculating the relocation income tax (RIT) allowance must be updated yearly to reflect changes in Federal, State, and Puerto Rico income tax brackets and rates. The Federal, State, and Puerto Rico tax tables contained in this rule are for calculating the 2005 RIT allowance to be paid to relocating Federal employees.

DATES: Effective Date: January 1, 2005.

FOR FURTHER INFORMATION CONTACT: The Regulatory Secretariat (VIR), Room 4035, GS Building, Washington, DC 20405, (202) 208-7312, for information pertaining to status or publication schedules. For clarification of content, contact Ms. Sallie Sherertz, Office of Governmentwide Policy, Travel Management Policy Division, at (202) 219-3455. Please cite FTR Amendment 2005-02, FTR case 2005-302.

SUPPLEMENTARY INFORMATION:

A. Background

Section 5724b of title 5, United States Code, provides for reimbursement of substantially all Federal, State, and local income taxes incurred by a transferred Federal employee on taxable moving expense reimbursements. Policies and procedures for the calculation and payment of a RIT allowance are contained in FTR Part 302-17. The Federal, State, and Puerto Rico tax tables for calculating RIT allowance payments are updated yearly to reflect changes in Federal, State, and Puerto Rico income tax brackets and rates.

This amendment provides the tax tables necessary to compute the relocation income tax (RIT) allowance for employees who are taxed in 2004 on moving expense reimbursements.

B. Executive Order 12866

This is not a significant regulatory action and, therefore, was not subject to review under section 6(b) of Executive Order 12866, Regulatory Planning and Review, dated September 30, 1993. This rule is not a major rule under 5 U.S.C. 804.

C. Regulatory Flexibility Act

This final rule is not required to be published in the Federal Register for notice and comment; therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Chapter 302, Part 302-17

Government employees, Income taxes, Relocation allowances and entitlements, Transfers, Travel and transportation expenses.

Dated: March 1, 2005.
Stephen A. Perry,
Administrator of General Services.

For the reasons set forth in the preamble, under 5 U.S.C. 5701-5709, GSA amends 41 CFR chapter 302, part 302-17 as set forth below:

PART 302-17_RELOCATION INCOME TAX (RIT) ALLOWANCE

1. The authority citation for 41 CFR part 302-17 continues to read as follows:

Authority: 5 U.S.C. 5738; 20 U.S.C. 905(a); E.O. 11609, 36 FR 13747, 3 CFR, 1971-1975 Comp., p. 586.

2. Revise Appendixes A, B, and C to part 302-17 to read as follows:

Appendix A to Part 302-17—Federal Tax Tables for RIT Allowance
Federal Marginal Tax Rates by Earned Income Level and Filing Status—Tax Year 2004
[The following table is to be used to determine the Federal marginal tax rate for Year 1 for computation of the RIT allowance as prescribed in § 302-17.8(e)(1). This table is to be used for employees in which their Year 1 occurred during calendar year 2004.]
Marginal tax rate percent | Single taxpayer: Over | Single taxpayer: But not over | Head of household: Over | Head of household: But not over | Married filing jointly: Over | Married filing jointly: But not over | Married filing separately: Over | Married filing separately: But not over
10 | $8,486 | $15,852 | $15,539 | $25,991 | $22,763 | $36,688 | $10,614 | $17,891
15 | 15,852 | 39,093 | 25,991 | 56,668 | 36,688 | 82,625 | 17,891 | 41,386
25 | 39,093 | 84,081 | 56,668 | 123,629 | 82,625 | 147,439 | 41,386 | 74,492
28 | 84,081 | 166,123 | 123,629 | 193,801 | 147,439 | 212,158 | 74,492 | 108,134
33 | 166,123 | 341,553 | 193,801 | 354,536 | 212,158 | 352,775 | 108,134 | 179,237
35 | 341,553 |  | 354,536 |  | 352,775 |  | 179,237 |

Appendix B to Part 302-17—State Tax Tables for RIT Allowance
State Marginal Tax Rates by Earned Income Level—Tax Year 2004
[The following table is to be used to determine the State marginal tax rates for calculation of the RIT allowance as prescribed in § 302-17.8(e)(2). This table is to be used for employees who received covered taxable reimbursements during calendar year 2004. (The rates shown below are married filing jointly.) If the state has a specific single rate, it is shown. If an employee is in a different filing status, please see 2005 State Tax Handbook, CCH Inc.]
Marginal tax rates (stated in percents) for the earned income amounts specified in each column. 1 2: State (or district) | Marginal tax rates (stated in percents) for the earned income amounts specified in each column. 1 2: $20,000-$24,999 | Marginal tax rates (stated in percents) for the earned income amounts specified in each column. 1 2: $25,000-$49,999 | Marginal tax rates (stated in percents) for the earned income amounts specified in each column. 1 2: $50,000-$74,999 | Marginal tax rates (stated in percents) for the earned income amounts specified in each column. 1 2: $75,000 & Over ³
Alabama | 5 | 5 | 5 | 5
Alaska | 0 | 0 | 0 | 0
Arizona | 3.20 | 3.20 | 3.74 | 3.74
If single status ⁴ | 3.20 | 3.74 | 4.72 | 4.72
Arkansas | 6 | 7 | 7 | 7
California | 2 | 4 | 6 | 9.3
If single status ⁴ | 4 | 8 | 9.3 | 9.3
Colorado | 4.63 | 4.63 | 4.63 | 4.63
Connecticut | 5 | 5 | 5 | 5
Delaware | 5.2 | 5.55 | 5.95 | 5.95
District of Columbia | 7.5 | 9.3 | 9.3 | 9.3
Florida | 0 | 0 | 0 | 0
Georgia | 6 | 6 | 6 | 6
Hawaii | 6.4 | 7.2 | 7.6 | 8.25
If single status ⁴ | 7.6 | 7.9 | 8.25 | 8.25
Idaho | 7.4 | 7.4 | 7.8 | 7.8
If single status ⁴ | 7.4 | 7.8 | 7.8 | 7.8
Illinois | 3 | 3 | 3 | 3
Indiana | 3.4 | 3.4 | 3.4 | 3.4
Iowa | 6.48 | 7.92 | 8.98 | 8.98
Kansas | 3.5 | 6.25 | 6.45 | 6.45
If single status ⁴ | 6.25 | 6.45 | 6.45 | 6.45
Kentucky | 6 | 6 | 6 | 6
Louisiana | 4 | 4 | 6 | 6
If single status ⁴ | 4 | 6 | 6 | 6
Maine | 7 | 8.5 | 8.5 | 8.5
If single status ⁴ | 8.5 | 8.5 | 8.5 | 8.5
Maryland | 4.75 | 4.75 | 4.75 | 4.75
Massachusetts | 5.3 | 5.3 | 5.3 | 5.3
Michigan | 3.9 | 3.9 | 3.9 | 3.9
Minnesota | 5.35 | 7.05 | 7.05 | 7.05
If single status ⁴ | 7.05 | 7.05 | 7.85 | 7.85
Mississippi | 5 | 5 | 5 | 5
Missouri | 6 | 6 | 6 | 6
Montana | 8 | 9 | 10 | 11
Nebraska | 3.57 | 5.12 | 6.84 | 6.84
If single status ⁴ | 5.12 | 6.84 | 6.84 | 6.84
Nevada | 0 | 0 | 0 | 0
New Hampshire | 0 | 0 | 0 | 0
New Jersey | 1.75 | 1.75 | 2.45 | 5.525
If single status ⁴ | 1.75 | 3.5 | 5.525 | 6.37
New Mexico | 4.7 | 6 | 6.8 | 6.8
If single status ⁴ | 6 | 6.8 | 6.8 | 6.8
New York | 5.25 | 5.9 | 6.85 | 6.85
If single status ⁴ | 6.85 | 6.85 | 6.85 | 6.85
North Carolina | 7 | 7 | 7 | 7
If single status ⁴ | 7 | 7 | 7.75 | 7.75
North Dakota | 2.1 | 2.1 | 3.92 | 3.92
If single status ⁴ | 2.1 | 3.92 | 3.92 | 4.34
Ohio | 4.457 | 4.457 | 5.201 | 5.943
Oklahoma | 6.65 | 6.65 | 6.65 | 6.65
Oregon | 9 | 9 | 9 | 9
Pennsylvania | 3.07 | 3.07 | 3.07 | 3.07
Rhode Island ⁵ | 25 | 25 | 25 | 25
South Carolina | 7 | 7 | 7 | 7
South Dakota | 0 | 0 | 0 | 0
Tennessee | 0 | 0 | 0 | 0
Texas | 0 | 0 | 0 | 0
Utah | 7 | 7 | 7 | 7
Vermont | 3.6 | 3.6 | 7.2 | 7.20
If single status ⁴ | 3.6 | 7.2 | 8.5 | 8.5
Virginia | 5.75 | 5.75 | 5.75 | 5.75
Washington | 0 | 0 | 0 | 0
West Virginia | 4 | 4.5 | 6 | 6.5
Wisconsin | 6.5 | 6.5 | 6.5 | 6.5
Wyoming | 0 | 0 | 0 | 0
(The above table headings established by IRS.)
¹ Earned income amounts that fall between the income brackets shown in this table (e.g., $24,999.45, $49,999.75) should be rounded to the nearest dollar to determine the marginal tax rate to be used in calculating the RIT allowance.
² If the earned income amount is less than the lowest income bracket shown in this table, the employing agency shall establish an appropriate marginal tax rate as provided in § 302-17.8(e)(2)(ii).
³ This is an estimate. For earnings over $100,000, and for filing statuses other than those above, please consult actual tax tables. (See 2005 State Tax Handbook, CCH, Inc.)
⁴ This rate applies only to those individuals certifying that they will file under a single status within the States where they will pay income taxes.
⁵ The income tax rate for Rhode Island is 25 percent of Federal income tax liability for all employees. Rates shown as a percent of Federal income tax liability must be converted to a percent of income as provided in § 302-17.8(e)(2)(iii).

Appendix C to Part 302-17—Federal Tax Tables For RIT Allowance—Year 2
Estimated Ranges of Wage and Salary Income Corresponding to Federal Statutory Marginal Income Tax Rates by Filing Status in 2005
[The following table is to be used to determine the Federal marginal tax rate for Year 2 for computation of the RIT allowance as prescribed in § 302-17.8(e)(1). This table is to be used for employees whose Year 1 occurred during calendar years 1995, 1996, 1997, 1998, 1999, 2001, 2002, 2003, or 2004.]
Marginal tax rate percent | Single taxpayer: Over | Single taxpayer: But not over | Head of household: Over | Head of household: But not over | Married filing jointly: Over | Married filing jointly: But not over | Married filing separately: Over | Married filing separately: But not over
10 | $8,712 | $16,201 | $15,989 | $26,630 | $23,519 | $37,568 | $10,897 | $18,242
15 | 16,201 | 39,898 | 26,630 | 58,079 | 37,568 | 84,110 | 18,242 | 42,410
25 | 39,898 | 85,748 | 58,079 | 125,252 | 84,110 | 150,301 | 42,410 | 76,165
28 | 85,748 | 169,230 | 125,252 | 195,589 | 150,301 | 216,710 | 76,165 | 109,970
33 | 169,230 | 348,318 | 195,589 | 360,009 | 216,710 | 360,571 | 109,970 | 182,419
35 | 348,318 |  | 360,009 |  | 360,571 |  | 182,419 |

Appendix D to Part 302-17—[Amended]

3. Amend the heading of Appendix D to part 302-17 by removing “2003” and adding “2004” in its place.

[FR Doc. 05-5000 Filed 3-14-05; 8:45 am]

BILLING CODE 6820-14-P